DEPARTMENT OF JUSTICE

Notice of Lodging of Consent Decree Pursuant to the Comprehensive Environmental Response, Compensation, and Liability Act

In accordance with Section 122(d) of the Comprehensive Environmental Response, Compensation, and Liability Act, as amended, 42 U.S.C. § 9622(d), and the policy of the United States Department of Justice, as provided in 28 CFR 50.7, notice is hereby given that on August 11, 2000, a proposed Consent Decree in United States v. Estate of J.M. Taylor et al., Civ. No. C-89-213-R, was lodged with the United States District Court for the Middle District of North Carolina. Under the proposed Consent Decree, Novartis Crop Protection (formerly Ciba-Geigy) and Olin Corporation agree to remediate pesticide contaminated groundwater at the Route 211 Area, one of the five separate areas comprising the Aberdeen Pesticides Dumps Superfund Site in Aberdeen, North Carolina. Remediation of contaminated groundwater at the Route 211 Area has been designated by EPA as part of Operable Unit Five. Under this Decree, Novartis and Olin agree to implement the groundwater remedy for the Route 211 Area selected by EPA in its Record of Decision for Operable Unit Five, issued by EPA on June 4, 1999.

The Department of Justice will receive, for a period of thirty (30) days from the date of this publication, comments concerning the proposed Consent Decree. Comments should be addressed to the Assistant Attorney General, Environment and Natural Resources Division, U.S. Department of Justice, P.O. Box 7611, Washington, D.C., 20044, and should refer to United States v. Estate of J.M. Taylor, et al., D.J. Ref. 90-11-3-323.

The proposed Consent Decree may be examined at any of the following offices: (1) The Office of the United States Attorney for the Middle District of North Carolina, 101 South Edgeworth, Greensboro, North Carolina; (2) the U.S. Environmental Protection Agency, Region 4, 61 Forsyth Street, S.W., Atlanta, Georgia.

A copy of the proposed Consent Decree may also be obtained in person or by mail from the Consent Decree Library, Department of Justice, P.O. Box 7611, Washington, DC 20044-7611. Please refer to the referenced case and identify the particular Decree desired. There is a photocopying charge of $0.25 per page. All checks should be made payable to “Consent Decree Library.”

For a copy of the proposed Consent Decree with all attachments (including the Record of Decision), enclose a check for $61.75. For a copy of the proposed Decree without the attachments, enclose a check for $23.00.

Walker B. Smith,
Acting Chief, Environmental Enforcement Section, Environment & Natural Resources Division.

[FR Doc. 00-22455 Filed 8-31-00; 8:45 am]

BILLING CODE 4410-15-M